DEPARTMENT OF TRANSPORTATION

Surface Transportation Board

[Finance Docket No. 34003]

Burlington Northern and Santa Fe Railway Company—Construction and Operation Between Kamey and Seadrift, Texas

AGENCY: Surface Transportation Board.

ACTION: Notice of availability of draft environmental assessment and request for comments.

SUMMARY: The Burlington Northern and Santa Fe Railway Company (BNSF) has petitioned the Surface Transportation Board (Board) for authority to construct and operate a rail line approximately 7.8 miles in length in Calhoun County, Texas, to serve the Union Carbide Corporation's Seadrift industrial complex. The Board's Section of Environmental Analysis (SEA) has prepared a Draft Environmental Assessment (EA) for this project. Based on the information provided and the environmental analysis conducted to date, the EA preliminarily concludes that this proposal should not significantly affect the quality of the human environment if the recommended mitigation measures set forth in the EA are implemented. Accordingly, SEA recommends, that if the Board approves this project, BNSF be required to implement the mitigation set forth in the EA. Copies of the EA have been served on all interested parties and will be made available to additional parties upon request. SEA will consider all comments received when making its final environmental recommendation to the Board. The Board will consider SEA's final recommendations and the complete environmental record in making its final decision in this proceeding.

DATES: The EA is available for public review and comment. Comments are due by October 15, 2001.

ADDRESSES: Comments (an original and 10 copies) regarding this EA should be submitted in writing to: Section of Environmental Analysis, Surface Transportation Board, 1925 K Street, NW., Washington, DC 20423, to the attention of Phillis Johnson-Ball.

FOR FURTHER INFORMATION CONTACT: Phillis Johnson-Ball, (202) 565-1530 (TDD for the hearing impaired (1-800-877-8339). To obtain a copy of the EA, contact Da-to-Da Legal, 1925 K Street, NW., Washington, DC 20006, phone (202) 293-7776 or visit the Board's website at www.stb.dot.gov.

By the Board, Victoria J. Rutson, Chief, Section of Environmental Analysis.
Vernon A. Williams,
Secretary.

[FR Doc. 01-23175 Filed 9-14-01; 8:45 am]

BILLING CODE 4915-00-P